DEPARTMENT OF DEFENSE

Office of the Inspector General; Privacy Act of 1974; System of Records

AGENCY: Office of the Inspector General, DoD.

ACTION: Notice to add a System of Records.

SUMMARY: The Office of the Inspector General, DoD is proposing to add an exempt system of records to its existing inventory of record systems subject to the Privacy Act of 1974, (5 U.S.C. 552a), as amended.

The exemption is needed because during the course of processing a Congressional inquiry, exempt materials from other systems of records may become part of the records in this system. To the extent that copies of exempt records from those “other” systems of records are entered into the Congressional case records, the Office of the Inspector General, DoD, hereby claims the same exemptions for the records from those other systems that are entered into this system, as claimed for the original primary systems of records, which they are a part. Therefore, the Inspector General, DoD is proposing to exempt the system of records CIG-21, entitled, “Congressional Correspondence Tracking System” from 5 U.S.C. 552a(j)(2), (k)(1) through (k)(7).

DATES: This proposed action is effective without further notice on January 8, 2004 unless comments are received which result in a contrary determination.

ADDRESSES: Send comments to Office of the Inspector General, Department of Defense, 400 Army Navy Drive, Room 223, Arlington, VA 22202-4704.

FOR FURTHER INFORMATION CONTACT: Mr. Darryl R. Aaron at (703) 604-9785.

SUPPLEMENTARY INFORMATION: The Inspector General, DoD, systems of records notices subject to the Privacy Act of 1974, (5 U.S.C. 552a), as amended, have been published in the Federal Register and are available from the address above.

The proposed system report, as required by 5 U.S.C. 552a(r) of the Privacy Act of 1974, as amended, was submitted on November 17, 2003, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: November 20 , 2003.
Patricia L. Toppings,
Alternate OSD Federal Register Liaison Officer, Department of Defense.

CIG-21

System name:

Congressional Correspondence Tracking System.

System location:

Office of Communications and Congressional Liaison, Office of the Inspector General of the Department of Defense, 400 Army Navy Drive, Arlington, VA 22202-4704.

Categories of individuals covered by the system:

Any individual who contacts a member of Congress requesting that the member solicit information from the Office of the Inspector General of the Department of Defense (OIG DoD) on their behalf.

Categories of records in the system:

Correspondence and related records from and to members of Congress pertaining to requests for congressional assistance in resolving problems. Records contain representative's name, constituent's name, subject matter, and case control number. The records may also contain the constituent's Social Security Number, home address, home telephone number, or related personal information provided by the representative making the inquiry.

Authority for maintenance of the system:

The Inspector General Act of 1978 (Pub. L. 95-452), as amended; DoD Directive 5106.1, Inspector General of the Department of Defense; OIG Regulation 5545.1, Participation in Congressional Activities; and E.O. 9397 (SSN).

Purpose(s):

To maintain a record of all Congressional inquiries and the OIG, DoD response, and to conduct the necessary research so as to provide information responsive to Congressional inquiries.

Routine uses of records maintained in the system, including categories of users and the purposes of such uses:

In addition to those disclosures generally permitted under 5 U.S.C. 552a of the Privacy Act, these records or information contained therein may specifically be disclosed outside the DoD as a routine use pursuant to 5 U.S.C. 552a(b)(3) as follows:

The DoD “Blanket Routine Uses” set forth at the beginning of the OIG compilation of system of records notices also apply to this system.

Policies and practices for storing, retrieving, accessing, retaining, and disposing of records in the system:

Storage:

Paper and electronic records are stored in file folders, safes, computerized index listings and electronic storage media on local area network.

Retrievability:

Retrieved by constituent's name, representative's name, or by case control number(s).

Safeguards:

Records are secured in a locked or guarded building and locked cabinets during non-duty hours. Paper records are stored in file cabinets located in an office suite, accessible only to OIG DoD personnel who must use the records to perform their duties.

Computer systems in which records reside are protected through the use of assigned user identification(s) and multiple levels of passwords restricting access.

Retention and disposal:

Records are permanent. Retire to the Washington National Records Center. Transfer to National Archives in two-year blocks when most recent record is 8 years old.

System manager(s) and address:

Director, Office of Communications and Congressional Liaison, Office of the Inspector General of the Department of Defense, 400 Army Navy Drive, Arlington, VA 22202-4704.

Notification procedure:

Individuals seeking to determine whether information about themselves is contained in this system should address written inquiries to the Director, Office of Communications and Congressional Liaison, Office of the Inspector General of the Department of Defense, 400 Army Navy Drive, Arlington, VA 22202-4704.

Written requests should contain the individual's full name, all former names and alias under which the file may be maintained and signature.

Record access procedures:

Individuals seeking access to records about themselves contained in this system of records should address written requests to the Chief, Freedom of Information Act/Privacy Act Office, 400 Army Navy Drive, Arlington, VA 22202-4704.

Written requests should contain the individual's full name, all former names and alias under which the file may be maintained and signature.

Contesting record procedures:

The OIG's rules for accessing records and for contesting contents and appealing initial agency determinations are published in 32 CFR part 312 or may be obtained from the system manager.

Record source categories:

The files are composed of correspondence or memoranda from Members of Congress or their staffs.

Exemptions claimed for the system:

During the course of processing a Congressional inquiry, exempt materials from other systems of records may in turn become part of the case records in this system. To the extent that copies of exempt records from those “other” systems of records are entered into this system of records, the Office of the Inspector General, DoD hereby claims the same exemptions for the records from those “other” systems that are entered into this system, as claimed for the original primary systems of records which they are a part.

An exemption rule for this system has been promulgated in accordance with requirements of 5 U.S.C. 553 (b) (1), (2), and (3), (c) and (e) and published in 32 CFR part 312. For additional information contact the system manager.

[FR Doc. 03-30397 Filed 12-8-03; 8:45 am]

BILLING CODE 5001-06-P